DEPARTMENT OF HEALTH AND HUMAN SERVICES

Administration for Community Living

Availability of Program Application Instructions for Tribal MIPPA Program Funds

Title: Medicare Beneficiary Outreach and Assistance Program: Funding for Title VI Native American Programs.

Announcement Type: Initial.

Funding Opportunity Number: HHS-2018-ACL-MITRB-1802.

Statutory Authority: The statutory authority for grants under this program announcement is contained in Subsection (a)(1)(B) of section 119 of the Medicare Improvements for Patients and Providers Act of 2008, as amended by section 3306 of the Patient Protection and Affordable Care Act, section 610 of the American Taxpayer Relief Act of 2012, section 1110 of the Pathway for SGR Reform Act of 2013, and section 110 of the Protecting Access to Medicare Act of 2014, and section 208 of the Medicare Access and CHIP Reauthorization Act of 2015 (MACRA).

Catalog of Federal Domestic Assistance (CFDA) Number: 93.071.

Dates: The deadline date for the submission of applications is 11:59PM EST August 17, 2018.

I. Funding Opportunity Description

Section 110 of the Protecting Access to Medicare Act of 2014 extended funding for outreach and assistance for low income programs under the Medicare Improvements for Patients and Providers Act (MIPPA). Older Americans Act (OAA) Title VI Native American Programs can fill an important role in providing valuable support to help eligible Native American elders in accessing the Low Income Subsidy program (LIS), Medicare Savings Program (MSP), Medicare Part D, Medicare prevention benefits and screenings and in assisting beneficiaries in applying for benefits. The purpose of these MIPPA grants will be to help inform eligible Native American elders about these benefits. The Administration for Community Living (ACL) seeks certification from OAA Title VI Native American programs that they will use the funds to coordinate at least one community announcement and at least one community outreach event to inform and assist eligible American Indian, Alaska Native or Native Hawaiian elders about the benefits available to them through Medicare Part D, the Low Income Subsidy, the Medicare Savings Program or Medicare prevention benefits and screenings and counsel those who are eligible.

II. Award Information

ACL/AoA has a total budget of $270,000 for the Tribes and will provide a grant of at least $1,000 to each Older Americans Act Title VI Native American grantee. ACL reserves the right to adjust funding levels subject to the number of applications received and availability of funds. ACL/AoA will award grants of at least $1,000 to each Title VI Native American grantee for a period of 12 months. The example of at least $1,000 per event is for illustrative purposes only. All expenditures must be properly documented and allowable per the terms and conditions of the grant award. The anticipated award date is on or before September 30, 2018.

III. Eligibility Criteria and Other Requirements

Only current Older Americans Act Title VI Native American Program grantees are eligible to apply for this funding opportunity. Cost Sharing or Matching is not required.

IV. Submission Information

The program instructions and one-page application template for this funding opportunity are available at www.grants.gov. At the website, search for HHS-2018-ACL-MITRB-1802.

To receive consideration, signed applications must be submitted by 11:59 p.m. Eastern time on August 17, 2018. No applications will be accepted after this date. Submit your signed application via:

(1) Email to MIPPA.Grants@acl.hhs.gov. Include the State, Name of Tribe, and Title VI Part A Grant Number and the words “MIPPA Application” in the subject line; or

(2) Overnight mail (FedEx, UPS, or USPS) to: Administration for Community Living, Office of Grants Management, 330 C Street SW, Suite 1136B, Washington, DC 20201; Attention: Yi-Hsin Yan.

V. Agency Contacts

Direct inquiries regarding this funding opportunity to U.S. Department of Health and Human Services, Administration for Community Living, Administration on Aging, Washington, DC 20201, attention: Cecelia Aldridge or by calling (202) 795-7293 or by email Cecelia.Aldridge@acl.hhs.gov.

Dated: June 20, 2018.
Mary Lazare,
Principal Deputy Administrator.

[FR Doc. 2018-13811 Filed 6-26-18; 8:45 am]

BILLING CODE 4154-01-P